NUCLEAR REGULATORY COMMISSION

[Docket No. 40-0299]

UMETCO Minerals Corporation

AGENCY: Nuclear Regulatory Commission.

ACTION: Final finding of no significant impact. Notice of opportunity for Hearing.

SUMMARY: The U. S. Nuclear Regulatory Commission (NRC) proposes to amend NRC Source Material License SUA-648 to authorize the licensee, Umetco Minerals Corporation (Umetco) to apply Alternate Concentration Limits (ACL) to licensed constituents of ground water according to the submitted plan. An Environmental Assessment (EA) was performed by the NRC staff in support of its review of Umetco's license amendment request, in accordance with the requirements of 10 CFR Part 51. The conclusion of the Environmental Assessment is a Finding of No Significant Impact (FONSI) for the proposed licensing action.

FOR FURTHER INFORMATION CONTACT: Ms. Elaine Brummett, Fuel Cycle Licensing Branch, Division of Fuel Cycle Safety and Safeguards, Office of Nuclear Material Safety and Safeguards, U. S. Nuclear Regulatory Commission, Mail Stop T8-A33, Washington, D.C. 20555-0001. Telephone 301/415-6606.

SUPPLEMENTARY INFORMATION:

Background

The Umetco former uranium mill site is licensed by the U. S. Nuclear Regulatory Commission (NRC) under Source Materials License SUA-648 to possess byproduct material in the form of uranium waste, such as mill tailings, generated by past uranium processing operations. The Umetco site is located in the East Gas Hills region of western Natrona and eastern Freemont Counties, Wyoming, approximately 80 kilometers (50 miles) southeast of the town of Riverton, Wyoming. The mill operated from 1960 to 1979 and was dismantled in 1992. The Umetco site contains two reclaimed disposal areas; the Above Ground Tailings Impoundment (Impoundment) (including the heap leach area) and the A-9 Repository. The license establishes a separate ground water protection standard for each area. The ground water protection standard is established at two Point of Compliance (POC) wells near each disposal area. These four wells are used to monitor water quality because hazardous constituents have leached from the milling waste into the upper aquifer.

The ACL application requests that site-specific concentration limits for hazardous constituents in ground water be granted for the Umetco site in place of the current concentration values in the license. The concentration limits required to be met under the licensed corrective action program are not attainable due to the high cost and the influence of mining-impacted water. The ground water at the Umetco site and surrounding areas is impacted by open-pit uranium mines with the same constituents resulting from the tailings and this was not considered when the corrective action began in 1991.

Umetco is also proposing that the Point of Exposure (POE) be established for the site at the long-term care boundary. This boundary encompasses all the land that will be transferred to the U.S. Department of Energy (DOE) for perpetual care of the disposal sites. The western side of the boundary would be located about 1.4 km (0.8 miles) west of the Impoundment and the southern side of the boundary would be located about 0.8 km (0.5 miles) south of the A-9 Repository. The POE is the location nearest the site where the public or environment might be exposed to milling impacted ground water, even though such exposure is highly unlikely.

Summary of the Environmental Assessment

The NRC staff performed an appraisal of the environmental impacts associated with the application of ACL, in accordance with 10 CFR Part 51, Environmental Protection Regulations for Domestic Licensing and Related Regulatory Functions. The license amendment would authorize Umetco to apply ACL to the license constituents measured at the POC. The technical aspects of the ACL application are discussed separately in a Technical Evaluation Report (TER) that will accompany the agency's final licensing action.

The results of the staff's appraisal of potential environmental impacts are documented in an EA placed in the Publicly Available Records (PARS) component of NRC's document system (ADAMS). ADAMS is accessible from the NRC Web site at http://www.nrc.gov/reading-rm.html (the Public Electronic Reading Room). Based on its review, the NRC staff has concluded that there are no significant environmental impacts associated with the proposed action.

Conclusions

The NRC staff has examined actual and potential impacts associated with implementation of the proposed ACL, and has determined that the requested amendment of Source Material License SUA-648, authorizing the ACL, will: (1) Be consistent with requirements of 10 CFR Part 40, Appendix A; (2) not be inimical to the public health and safety; and (3) not have long-term detrimental impacts on the environment. The following statements summarize the conclusions resulting from the staff's environmental assessment, and support the FONSI:

1. An acceptable long-term ground water monitoring program will monitor contaminants to detect if applicable regulatory limits are exceeded. Each of the licensed constituents should remain within the range of background values, for 1000 years at the POE.

2. Present and potential health risks to the public and risks of environmental damage from the proposed application of ACL were assessed. Given the remote location, the expected future land use, the perpetual control by the Federal government of land within the long-term boundary, and the high value of some of the constituents in background due to past surface mining in the area, the staff determined that the risk factors for health and environmental hazards are insignificant.

Alternatives to the Proposed Action

The proposed action is to amend NRC Source Material License SUA-648, to allow application of ACL to licensed constituents in ground water at the Umetco site. The principal alternatives available to the NRC are to:

1. Approve the license amendment request as submitted; or

2. Amend the license with such additional conditions as are considered necessary or appropriate to protect public health and safety and the environment; or

3. Deny the amendment request.

Based on its review, the NRC staff has concluded that the environmental impacts associated with the proposed action do not warrant either the limiting of Umetco's plans necessary for license termination (site is in final stages of decommissioning) or the denial of the license amendment. Additionally, in the TER prepared for this action, the staff has reviewed the licensee's proposed action with respect to the ground water criteria specified in 10 CFR 40, Appendix A, and has no basis for denial of the proposed action. Therefore, the staff considers that Alternative 1 is the appropriate alternative for selection.

Finding of No Significant Impact

The NRC staff has prepared an EA for the proposed amendment of NRC Source Material License SUA-648. On the basis of this assessment, the NRC staff has concluded that the environmental impacts that may result from the proposed action would not be significant, and therefore, preparation of an Environmental Impact Statement is not warranted.

The EA and other documents related to this proposed action are available for public inspection and copying at the NRC Public Document Room, One White Flint North, 11555 Rockville Pike, Rockville, MD 20852.

Notice of Opportunity for Hearing

The Commission hereby provides notice that this is a proceeding on an application for a licensing action falling within the scope of 10 CFR Part 2, Subpart L, “Informal Hearing Procedures for Adjudications in Materials and Operators Licensing Proceedings,” of the Commission's Rules of Practice for Domestic Licensing Proceedings and Issuance of Orders. Pursuant to § 2.1205(a), any person whose interest may be affected by this proceeding may file a request for a hearing. In accordance with § 2.1205(d), a request for a hearing must be filed within thirty (30) days from the date of publication of this Federal Register notice. The request for a hearing must be filed with the Office of the Secretary either:

(1) By delivery to the Rulemakings and Adjudications Staff of the Office of the Secretary at One White Flint North, 11555 Rockville Pike, Rockville, MD 20852; or

(2) By mail or telegram addressed to the Secretary, U.S. Nuclear Regulatory Commission, Washington, DC 20555-0001, Attention: Rulemakings and Adjudications Staff.

In accordance with 10 CFR 2.1205(f), each request for a hearing must also be served, by delivering it personally or by mail to:

(1) The applicant, Umetco Minerals Corporation, P.O. Box 1029, Grand Junction, CO 81502;

(2) The NRC staff, by delivery to the General Counsel, One White Flint North, 11555 Rockville Pike, Rockville, MD 20852; or

(3) By mail addressed to the General Counsel, U.S. Nuclear Regulatory Commission, Washington, DC 20555-0001.

In addition to meeting other applicable requirements of 10 CFR Part 2 of the Commission's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

Any hearing that is requested and granted will be held in accordance with the Commission's “Informal Hearing Procedures for Adjudications in Materials and Operator Licensing Proceedings” in 10 CFR part 2, subpart L.

Dated at Rockville, Maryland, this 24th day of March, 2002.
For the Nuclear Regulatory Commission.
Melvyn Leach,
Chief, Fuel Cycle Licensing Branch, Division of Fuel Cycle Safety and Safeguards, Office of Nuclear Material Safety and Safeguards.

[FR Doc. 02-7605 Filed 3-28-02; 8:45 am]

BILLING CODE 7590-01-P